DEPARTMENT OF TRANSPORTATION

Federal Aviation Administration

14 CFR Part 73

[Docket No. FAA-2016-9495; Airspace Docket No. 15-AAL-6]

RIN 2120-AA66

Proposed Establishment of Restricted Areas R-2201 A, B, C, D, E, F, G, H, and J; Fort Greely, AK.

AGENCY: Federal Aviation Administration (FAA), DOT.

ACTION: Notice of proposed rulemaking (NPRM).

SUMMARY: The FAA is proposing the establishment of Restricted Area R-2201A, B, C, D, E, F, G, H, and J; Fort Greely AK, on behalf of/by the United States Army Alaska (USARAK), over the Battle Area Complex (BAX) and Combined Arms Collective Training Facility (CACTF), in the vicinity of Allen Army Airfield, AK. The proposed restricted airspace would contain hazardous activities and be available for joint military use, including active, National Guard and Reserve elements.

DATES: Comments must be received on or before April 20, 2017.

ADDRESSES: Send comments on this proposal to the U.S. Department of Transportation, Docket Operations, 1200 New Jersey Avenue SE., West Building Ground Floor, Room W12-140, Washington, DC 20590-0001; telephone: 1 (800) 647-5527, or (202) 366-9826. You must identify FAA Docket Number FAA-2016-9495 and Airspace Docket Number 15-AAL-6 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace in the vicinity of Allen Army Airfield, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2016-9495 and Airspace Docket Number 15-AAL-6) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket Number FAA-2016-9495 and Airspace Docket Number 15-AAL-6.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave. SW., Renton, WA 98057.

Background

The current BAX Controlled Firing Area (CFA) does not provide the restricted area airspace required by USARAK to conduct full spectrum helicopter gunnery training, longer range firing on target areas and integrated use of varied weapon types, during simultaneous training events. The proposed restricted airspace would provide various combat teams the area required to properly train in both open and urban terrain environments.

Combat units would be able to incorporate enablers, such as unmanned aerial vehicles, with piloted combat aircraft engaged in aggressive combat maneuvers and indirect fires with non-explosive munitions. This proposed restricted area would also accommodate fixed wing aircraft in support of ground operations using simulations and laser engagements.

The restricted area would provide the protection required to contain these hazardous activities and the weapons' safety footprints for the different ordnances to be used within the proposed airspace.

The proposed restricted area is subdivided into segmented blocks to enable restricted area activation for only the needed block. Segments activation reduces the impact to non-participating aircraft. This proposal would provide the Army with the necessary expansion to meet both current and future training requirements.

The Proposal

The FAA is proposing an amendment to Title 14, Code of Federal Regulations (14 CFR) part 73 to establish restricted area R-2201A through H, and J; Fort Greely, AK. The FAA is proposing this action at the request of the United States Army in Alaska. The proposed restricted areas are described below.

R-2201A, D, and G would be established one mile southeast of Allen Army Airfield and extend south and east for 3 miles. The altitudes will be from the surface up to, but not including, 6,000 feet MSL for R-2201A; 6,000 feet MSL to but not including 15,000 feet MSL for R-2201D; 15,000 feet MSL to 22,000 feet MSL for R-2201G.

R-2201B, E, and H would be established south of R-2201A, D, and G and east of R-2202A and C. The northern boundary is the same as R-22015A, D, and G southern boundary with an extension 3 miles to the west and 2 miles to the furthest point of the eastern boundary. The altitudes will be from the surface up to but not including 6,000 feet MSL for R-2201B; 6,000 feet MSL to but not including 15,000 feet MSL for R-2201E; 15,000 feet MSL to 22,000 feet MSL for R-2201H.

R-2201C, F, and J would be established south of R-2201B, E, and H and east of R-2202 A and C. The northern boundary is the same as R-22015B, E, and H southern boundary. The altitudes will be from the surface up to but not including 6,000 feet MSL for R-2201C; 6,000 feet MSL to but not including 15,000 feet MSL for R-2201F; 15,000 feet MSL to 22,000 feet MSL for R-2201J.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.22 Alaska [Amended]

2. § 73.22 is amended as follows:

* * * * *

R-2201A Fort Greely, AK [New]

Boundaries. Beginning at lat. 63°58′49″ N., long. 145°41′15″ W.; to lat. 63°58′45″ N., long. 145°35′06″ W.; to lat. 63°58′08″ N., long. 145°35′05″ W.; to lat. 63°58′09″ N., long. 145°31′07″ W.; to lat. 63°57′17″ N., long. 145°31′05″ W.; to lat. 63°57′17″ N., long. 145°29′05″ W.; to lat. 63°56′54″ N., long. 145°29′02″ W.; to lat. 63°56′33″ N., long. 145°27′43″ W.; to lat. 63°56′40″ N., long. 145°39′26″ W.; to lat. 63°57′20″ N., long. 145°39′25″ W.; to lat. 63°57′32″ N., long. 145°39′25″ W.; to the point of beginning by following Jarvis Creek.

Designated altitudes. Surface to but not including 6,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201B Fort Greely, AK [New]

Boundaries. Beginning at lat. 63°55′56″ N., long. 145°24′57″ W.; to lat. 63°56′33″ N., long. 145°27′43″ W.; to lat. 63°56′40″ N., long. 145°39′26″ W.; to lat. 63°56′20″ N., long. 145°39′26″ W.; to lat. 63°56′20″ N., long. 145°44′41″ W.; to lat. 63°56′20″ N., long. 145°44′49″ W.; to lat. 63°52′54″ N., long. 145°44′50″ W.; to lat. 63°52′55″ N., long. 145°42′56″ W.; to lat. 63°51′09″ N., long. 145°42′52″ W.; to lat. 63°51′01″ N., long. 145°33′04″ W.; to the point of beginning by following Granite Creek.

Designated altitudes. Surface to but not including 6,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201C Fort Greely, AK [New]

Boundaries. Beginning at lat. 63°51′01″ N., long. 145°33′04″ W.; to lat. 63°51′09″ N., long. 145°42′52″ W.; to lat. 63°51′10″ N., long. 145°43′50″ W.; to lat. 63°50′58″ N., long. 145°43′48″ W.; to lat. 63°50′15″ N., long. 145°43′49″ W.; to lat. 63°50′16″ N., long. 145°44′22″ W.; to lat. 63°49′22″ N., long. 145°44′35″ W.; to lat. 63°47′35″ N., long. 145°45′05″ W.; to lat. 63°46′58″ N., long. 145°45′13″ W.; to lat. 63°46′56″ N., long. 145°37′10″ W.; to lat. 63°46′57″ N., long. 145°36′31″ W.; to lat. 63°47′43″ N., long. 145°35′08″ W.; to lat. 63°47′45″ N., long. 145°35′04″ W.; to the point of beginning by following Granite Creek.

Designated altitudes. Surface to but not including 6,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201D Fort Greely, AK [New]

Boundaries. Beginning at lat. 63°58′49″ N., long. 145°41′15″ W.; to lat. 63°58′45″ N., long. 145°35′06″ W.; to lat. 63°58′08″ N., long. 145°35′05″ W.; to lat. 63°58′09″ N., long. 145°31′07″ W.; to lat. 63°57′17″ N., long. 145°31′05″ W.; to lat. 63°57′17″ N., long. 145°29′05″ W.; to lat. 63°56′54″ N., long. 145°29′02″ W.; to lat. 63°56′33″ N., long. 145°27′43″ W.; to lat. 63°56′40″ N., long. 145°39′26″ W.; to lat. 63°57′20″ N., long. 145°39′25″ W.; to lat. 63°57′32″ N., long. 145°39′25″ W.; to the point of beginning by following Jarvis Creek.

Designated altitudes. 6,000 feet MSL to but not including 15,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201E Fort Greely, AK [New]

Boundaries. Beginning at lat. 63°55′56″ N., long. 145°24′57″ W.; to lat. 63°56′33″ N., long. 145°27′43″ W.; to lat. 63°56′40″ N., long. 145°39′26″ W.; to lat. 63°56′20″ N., long. 145°39′26″ W.; to lat. 63°56′20″ N., long. 145°44′41″ W.; to lat. 63°56′20″ N., long. 145°44′49″ W.; to lat. 63°52′54″ N., long. 145°44′50″ W.; to lat. 63°52′55″ N., long. 145°42′56″ W.; to lat. 63°51′09″ N., long. 145°42′52″ W.; to lat. 63°51′01″ N., long. 145°33′04″ W.; to the point of beginning by following Granite Creek.

Designated altitudes. 6,000 feet MSL to but not including 15,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201F Fort Greely, AK [New]

Boundaries. Beginning at lat. 63°51′01″ N., long. 145°33′04″ W.; to lat. 63°51′09″ N., long. 145°42′52″ W.; to lat. 63°51′10″ N., long. 145°43′50″ W.; to lat. 63°50′58″ N., long. 145°43′48″ W.; to lat. 63°50′15″ N., long. 145°43′49″ W.; to lat. 63°50′16″ N., long. 145°44′22″ W.; to lat. 63°49′22″ N., long. 145°44′35″ W.; to lat. 63°47′35″ N., long. 145°45′05″ W.; to lat. 63°46′58″ N., long. 145°45′13″ W.; to lat. 63°46′56″ N., long. 145°37′10″ W.; to lat. 63°46′57″ N., long. 145°36′31″ W.; to lat. 63°47′43″ N., long. 145°35′08″ W.; to lat. 63°47′45″ N., long. 145°35′04″ W.; to the point of beginning by following Granite Creek.

Designated altitudes. 6,000 feet MSL to but not including 15,000 feet MSL.

Time of designation. 0700-1900 local time Monday-Friday; other times by NOTAM.

Controlling agency. FAA, Anchorage, ARTCC.

Using agency. U.S. Army, AK (USARAK), Commanding General, Joint Base Elmendorf-Richardson (JBER), AK.

R-2201G Fort Greely, AK [New]

Boundaries. Beginning at lat. 63°58′49″ N., long. 145°41′15″ W.; to lat. 63°58′45″ N., long. 145°35′06″ W.; to lat. 63°58′08″ N., long. 145°35′05″ W.; to lat. 63°58′09″ N., long. 145°31′07″ W.; to lat. 63°57′17″ N., long. 145°31′05″ W.; to lat. 63°57′17″ N., long. 145°29′05″ W.; to lat. 63°56′54″ N., long. 145°29′02″ W.; to lat. 63°56′33″ N., long. 145°27′43″ W.; to lat. 63°56′40″ N., long. 145°39′26″ W.; to lat. 63°57′20″ N., long. 145°39′25″ W.; to lat. 63°57′32″ N., long. 145°39′25″ W.; to the point of beginning by following Jarvis Creek.

Designated altitudes. 15,000 feet MSL to FL220.

Time of designation. 0700-1900 local time Monday-Friday; other times by NOTAM.

Controlling agency. FAA, Anchorage, ARTCC.

Using agency. U.S. Army, AK (USARAK), Commanding General, Joint Base Elmendorf-Richardson (JBER), AK.

R-2201H Fort Greely, AK [New]

Boundaries. Beginning at lat. 63°55′56″ N., long. 145°24′57″ W.; to lat. 63°56′33″ N., long. 145°27′43″ W.; to lat. 63°56′40″ N., long. 145°39′26″ W.; to lat. 63°56′20″ N., long. 145°39′26″ W.; to lat. 63°56′20″ N., long. 145°44′41″ W.; to lat. 63°56′20″ N., long. 145°44′49″ W.; to lat. 63°52′54″ N., long. 145°44′50″ W.; to lat. 63°52′55″ N., long. 145°42′56″ W.; to lat. 63°51′09″ N., long. 145°42′52″ W.; to lat. 63°51′01″ N., long. 145°33′04″ W.; to the point of beginning by following Granite Creek.

Designated altitudes. 15,000 feet MSL to FL220.

Time of designation. 0700-1900 local time Monday-Friday; other times by NOTAM.

Controlling agency. FAA, Anchorage, ARTCC.

Using agency. U.S. Army, AK (USARAK), Commanding General, Joint Base Elmendorf-Richardson (JBER), AK.

R-2201J Fort Greely, AK [New]

Boundaries. Beginning at lat. 63°51′01″ N., long. 145°33′04″ W.; to lat. 63°51′09″ N., long. 145°42′52″ W.; to lat. 63°51′10″ N., long. 145°43′50″ W.; to lat. 63°50′58″ N., long. 145°43′48″ W.; to lat. 63°50′15″ N., long. 145°43′49″ W.; to lat. 63°50′16″ N., long. 145°44′22″ W.; to lat. 63°49′22 N., long. 145°44′35″ W.; to lat. 63°47′35″ N., long. 145°45′05″ W.; to lat. 63°46′58 N., long. 145°45′13″ W.; to lat. 63°46′56″ N., long. 145°37′10″ W.; to lat. 63°46′57″ N., long. 145°36′31″ W.; to lat. 63°47′43″ N., long. 145°35′08″ W.; to lat. 63°47′45″ N., long. 145°35′04″ W.; to the point of beginning by following Granite Creek.

Designated altitudes. 15,000 feet MSL to FL220.

Time of designation. 0700-1900 local time Monday-Friday; other times by NOTAM.

Controlling agency. FAA, Anchorage, ARTCC.

Using agency. U.S. Army, AK (USARAK), Commanding General, Joint Base Elmendorf-Richardson (JBER), AK.

Issued in Washington, DC, on February 27, 2017.
Rodger A. Dean Jr.,
Manager, Airspace Policy Group.

[FR Doc. 2017-04187 Filed 3-3-17; 8:45 am]

BILLING CODE 4910-13-P